DEPARTMENT OF THE INTERIOR

National Park Service

[NPS-WASO-NAGPRA-16661; PPWOCRADN0-PCU00RP14.R50000]

Notice of Inventory Completion: Michigan State Police, Lakeview Post, Lakeview, MI

AGENCY: National Park Service, Interior.

ACTION: Notice.

SUMMARY: The Michigan State Police, Lakeview Post (MSP 64) has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to MSP 64. If no additional requestors come forward, transfer of control of the human remains to the Indian tribes or Native Hawaiian organizations stated in this notice may proceed.

DATES: Representatives of any Indian tribe or Native Hawaiian organization not identified in this notice that wish to request transfer of control of these human remains should submit a written request with information in support of the request to MSP 64 at the address in this notice by December 17, 2014.

ADDRESSES: Detective Sergeant Christian Clute, Michigan State Police, 10300 Howard City-Edmore Rd, Lakeview, MI 48850, telephone 616-527-8187, email clutec@michigan.gov.

SUPPLEMENTARY INFORMATION: Notice is here given in accordance with the Native American Graves Protection and Repatriation Act (NAGPRA), 25 U.S.C. 3003, of the completion of an inventory of human remains under the control of the Michigan State Police, Lakeview Post, Lakeview, MI. The human remains were removed from residential property in Section 19, Lyons Twp, Village of Lyons, Ionia County and a second, unrelated set, from a gravel pit in the SW corner of Section 25, Bethany Twp, Gratiot County, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of both sets of human remains was made by the Michigan State University, Anthropology Department on behalf of the MSP 64 in consultation with representatives of the Little River Band of Ottawa Indians, Michigan; Nottawaseppi Huron Band of the Potawatomi, Michigan (previously listed as the Huron Potawatomi, Inc.); Pokagon Band of Potawatomi Indians, Michigan and Indiana; Saginaw Chippewa Indian Tribe of Michigan; and the Sault Ste. Marie Tribe of Chippewa Indians, Michigan. The following tribes were notified and consultation was requested: Bad River Band of Lake Superior Tribe of Chippewa Indians of the Bad River Reservation, Wisconsin; Bay Mills Indian Community, Michigan; Bois Forte Band (Nett Lake) of Minnesota Chippewa Tribe, Minnesota; Chippewa-Cree Indians of the Rocky Boy's Reservation, Montana; Citizen Potawatomi Nation, Oklahoma; Fond du Lac Band of the Minnesota Chippewa Tribe, Minnesota; Forest County Potawatomi Community, Wisconsin; Grand Portage Band of Minnesota Chippewa Tribe, Minnesota; Grand Traverse Band of Ottawa and Chippewa Indians, Michigan; Hannahville Indian Community, Michigan; Keweenaw Bay Indian Community, Michigan; Lac Courte Oreilles Band of Lake Superior Chippewa Indians, Wisconsin; Lac du Flambeau Band of Lake Superior Chippewa Indians of the Lac du Flambeau Reservation, Wisconsin; Lac Vieux Desert Band of Lake Superior Chippewa Indians of Michigan; Little Traverse Bay Bands of Odawa Indians, Michigan; Leech Lake Band of the Minnesota Chippewa Tribe, Minnesota; Mille Lacs Band of the Minnesota Chippewa Tribe, Minnesota; Match-e-be-nash-she-wish Band of Pottawatomi Indians of Michigan; Ottawa Tribe of Oklahoma; Prairie Band of Potawatomi Nation (previously listed as the Prairie Band Potawatomi Nation, Kansas); Quechan Tribe of the Fort Yuma Indian Reservation, California & Arizona; Red Cliff Band of Lake Superior Chippewa Indians, Wisconsin; Red Lake Band of Chippewa Indians, Minnesota; Sokaogon Chippewa Community, Wisconsin; St. Croix Chippewa Indians, Wisconsin; Turtle Mountain Band of Chippewa Indians, North Dakota; and the White Earth Band of Minnesota Chippewa Tribe, Minnesota. Hereafter, all tribes listed in this section are referred to as “The Tribes.”

History and Description of the Remains

On October 21, 1981, human remains representing, at minimum, three adult individuals were removed from a residence in the Village of Lyons, Ionia County, MI. The homeowner discovered the human remains while digging a foundation for a house. Michigan State Police (MSP) was called to investigate, complaint number 13-3138-81, and took possession of the remains and transferred them to Michigan State University (MSU), Anthropology Department for analysis. MSU determined the remains belonged to at least three different adult Native Americans. The human remains were returned to MSP 64 in June 2013. No known individuals were identified. No associated funeral objects are present.

On October 14, 1971, human remains representing what was determined to be one adult male individual were removed from a gravel pit in the southwest quarter of Section #25, Bethany Township, Gratiot County, MI. MSP took possession of the remains, complaint number 14-1865-71, and transferred them to MSU for analysis. MSU determined the remains belonged to one adult male Native American. The human remains were returned to MSP 64 in June 2013. No known individuals were identified. No associated funeral objects are present.

Determinations Made by the Michigan State Police

Officials of MSP64 have determined that:

• Pursuant to 25 U.S.C. 3001(9), the human remains described in this notice are Native American based on forensic inspection of the remains by the Michigan State University, Anthropology Department.

• Pursuant to 25 U.S.C. 3001(9), the human remains described in this notice represent the physical remains of at least four individuals of Native American ancestry.

• Pursuant to 25 U.S.C. 3001(2), a relationship of shared group identity cannot be reasonably traced between the Native American human remains and any present-day Indian tribe.

• Treaties, Acts of Congress, or Executive Orders indicate that the land from which the Native American human remains were removed is the aboriginal land of The Tribes.

• Pursuant to 43 CFR 10.11(c)(1), the disposition of the human remains may be to The Tribes.

Additional Requestors and Disposition

Representatives of any Indian tribe or Native Hawaiian organization not identified in this notice that wish to request transfer of control of these human remains should submit a written request with information in support of the request to Detective Sergeant Christian Clute, Michigan State Police, Lakeview Post, 10300 Howard City-Edmore Rd, Lakeview, MI 48850, telephone 616-527-8187, email clutec@michigan.gov, by December 17, 2014. After that date, if no additional requestors have come forward, transfer of control of the human remains to The Tribes may proceed.

The MSP 64 is responsible for notifying The Tribes that this notice has been published.

Dated: September 10, 2014.
Sherry Hutt,
Manager, National NAGPRA Program.

[FR Doc. 2014-27149 Filed 11-14-14; 8:45 am]

BILLING CODE 4312-50-P